DEPARTMENT OF HEALTH AND HUMAN SERVICES

Agency for Toxic Substances and Disease Registry

[60Day-17-17IY]

Proposed Data Collection Submitted for Public Comment and Recommendations

AGENCY: Agency for Toxic Substances and Disease Registry (ATSDR), Department of Health and Human Services (HHS)

ACTION: Notice with comment period; withdrawal.

SUMMARY: The Agency for Toxic Substances and Disease Registry (ATSDR) in the Department of Health and Human Services (HHS) announces the withdrawal of the notice published under the same title on December 30, 2016 for public comment.

DATES: Effective January 9, 2017.

FOR FURTHER INFORMATION CONTACT: Information Collection Review Office, Centers for Disease Control and Prevention, 1600 Clifton Road NE., MS-D74, Atlanta, Georgia 30329; phone: 404-639-7570; Email: omb@cdc.gov.

SUPPLEMENTARY INFORMATION: On December 30, 2016 ATSDR published a notice in the Federal Register titled “Proposed Data Collection Submitted for Public Comment and Recommendations” (Vol. 81, No. 251 FR Doc. 2016-31738, Pages 96454-96456). ATSDR prematurely and inadvertently published this notice. The notice is being withdrawn immediately for public comment.

A new and corrected notice published on January 3, 2017 under the same title (Vol. 82, No. 1 FR Doc. 2016-31772, Pages 124-126, Docket No. ATSDR-2016-0007) for public comment.

Leroy A. Richardson,
Chief, Information Collection Review Office, Office of Scientific Integrity, Office of the Associate Director for Science, Office of the Director, Centers for Disease Control and Prevention.

[FR Doc. 2017-00080 Filed 1-6-17; 8:45 am]

BILLING CODE 4163-18-P